DEPARTMENT OF COMMERCE

Bureau of the Census

[Docket Number [201123-0315]]

2022 Census of Governments

AGENCY: Bureau of the Census, Commerce.

ACTION: Notice of determination and request for comment.

SUMMARY: The Bureau of the Census (U.S. Census Bureau) publishes this notice to request public comment on the content of the 2022 Census of Governments. This collection will be primarily electronic using a secure encrypted internet data collection system called Centurion. The Census of Governments is conducted at 5-year intervals (years ending in 2 and 7) and is the most comprehensive compilation of statistics about U.S. state and local governments.

DATES: Written comments must be submitted on or before February 12, 2021 to ensure consideration of your comments on the 2022 Census of Governments content.

ADDRESSES: Direct all written comments regarding the 2022 Census of Governments to Raemeka Mayo, Assistant Division Chief, Public Sector Programs, Economy-Wide Statistics, Room 5K179, Washington, DC 20233; or Email [COG22.FRN@census.gov].

FOR FURTHER INFORMATION CONTACT: Raemeka Mayo, Assistant Division Chief, Public Sector Programs, Economy-Wide Statistics, Room 5K179, Washington, DC 20233, by phone (301) 763-4688, or by email <Raemeka. M.Mayo@census.gov>.

SUPPLEMENTARY INFORMATION:

A. Background

The granting of specific authority to conduct the program is found in Title 13, United States Code (U.S.C.), Section 161, which authorizes and requires the Census of Governments. Section 161 of the statute directs the Secretary of Commerce to “. . .take, compile, and publish for the year 1957 and for every fifth year thereafter a census of governments. Each such census shall include, but shall not be limited to, data on taxes and tax valuations, governmental receipts, expenditures, indebtedness, and employees of states, counties, cities, and other governmental units.”

This notice announces that the Census Bureau is preparing to conduct the 2022 Census of Governments. The Census of Governments is the U.S. government's official 5-year measure of state and local governments, and has been taken periodically since 1957. The Census of Governments is the most comprehensive source of information about state and local governments from the national to the local level. These Census of Governments data products provide unique basic measures for U.S. state and local governments. Data include details on debt and assets, as well as revenues and expenditures and employment by government function. Published data cover approximately 90,000 state and local governments that includes approximately 3,000 counties and 35,000 cities and towns, 13,000 independent school districts, and 39,000 special districts. The Census of Governments is the most comprehensive, comparable, and precise source of uniform statistics on economic activity of state and local Governments. It provides detailed, high quality, and authoritative statistics that meet the needs of government, businesses, policymakers, academic researchers, and the American public. The program's data products provide essential information to Congress and federal agencies for planning and evaluating intergovernmental programs. Moreover, they provide the official measures of output for state and local governments and serve much of the foundation for the National Income and Product Accounts, Gross Domestic Product estimates, and other composite measures of the Nation's economic performance. These data provide benchmarks for other federal statistical series, including current surveys, such as the Justice Assistance Data Survey and Quarterly Summary of State and Local Government Tax Revenue, conducted by the Census Bureau. Census of Governments data are also used by business organizations and economic development agencies to provide insight into the complex nature and fiscal health of state and local government finances.

B. Data Collection

The 2022 Census of Governments will be conducted by electronic collection (99 percent internet Collection). The electronic instrument, Centurion, provides improved quality with automatic data checks, and is context-sensitive to assist the data provider in identifying potential reporting problems before submission, thus reducing the need for follow-up. Centurion is internet-based, eliminating the need for downloading software and increasing the integrity and confidentiality of the data. The Census Bureau will furnish usernames and passwords for the electronic instrument to the organizations included in the survey. The Census Bureau also collects electronic data files through arrangements with state governments or customized electronic reporting instruments with state and local governments, and central collection arrangements with local governments.

C. Census of Governments Content

The 2017 Census of Governments forms are available on https://census.gov/govs. This web page includes links to each respective survey's page, where the survey forms can be found under the tab, “Information for Respondents.” Please take a moment to review the forms relevant to your interests and provide us with your comments for consideration as we prepare content for the 2022 questionnaires. We are particularly interested in comments on the usefulness of existing inquiries for continued inclusion and in suggestions for new measures that would be appropriate to include in the Census of Governments.

Notwithstanding any other provision of law, no person is required to respond to, nor shall a person be subject to a penalty for failure to comply with a collection of information subject to the requirements of the Paperwork Reduction Act (PRA) unless that collection of information displays a current valid Office of Management and Budget (OMB) control number. The Census Bureau, through the proper established procedures, will be obtaining an OMB control number under the PRA as we get closer to launching this component in 2022.

Steven D. Dillingham, Director, Bureau of the Census, approved the publication of this Notice in the Federal Register.

Dated: December 8, 2020.
Sheleen Dumas,
Department PRA Clearance Officer, Office of the Chief Information Officer, Commerce Department.

[FR Doc. 2020-27402 Filed 12-11-20; 8:45 am]

BILLING CODE 3510-07-P